DEPARTMENT OF COMMERCE

International Trade Administration

[A-557-813]

Antidumping Duty Order: Polyethylene Retail Carrier Bags From Malaysia

AGENCY: Import Administration, International Trade Administration, Department of Commerce.

SUMMARY: Pursuant to section 736(a) of the Tariff Act of 1930, as amended, the Department of Commerce is issuing an antidumping duty order on polyethylene retail carrier bags from Malaysia.

EFFECTIVE DATE: August 9, 2004.

FOR FURTHER INFORMATION CONTACT: David Dirstine, AD/CVD Enforcement, Office 5, Import Administration, U.S. Department of Commerce, 14th Street and Constitution Avenue, NW., Washington, DC 20230; telephone: (202) 482-4033.

SUPPLEMENTARY INFORMATION:

Scope of Order

The merchandise subject to this antidumping duty order is polyethylene retail carrier bags (PRCBs) which may be referred to as t-shirt sacks, merchandise bags, grocery bags, or checkout bags. The subject merchandise is defined as non-sealable sacks and bags with handles (including drawstrings), without zippers or integral extruded closures, with or without gussets, with or without printing, of polyethylene film having a thickness no greater than 0.035 inch (0.889 mm) and no less than 0.00035 inch (0.00889 mm), and with no length or width shorter than 6 inches (15.24 cm) or longer than 40 inches (101.6 cm). The depth of the bag may be shorter than 6 inches but not longer than 40 inches (101.6 cm).

PRCBs are typically provided without any consumer packaging and free of charge by retail establishments, e.g., grocery, drug, convenience, department, specialty retail, discount stores, and restaurants, to their customers to package and carry their purchased products. The scope of the investigation excludes (1) polyethylene bags that are not printed with logos or store names and that are closeable with drawstrings made of polyethylene film and (2) polyethylene bags that are packed in consumer packaging with printing that refers to specific end-uses other than packaging and carrying merchandise from retail establishments, e.g., garbage bags, lawn bags, trash-can liners.

Imports of the subject merchandise are currently classifiable under statistical category 3923.21.0090 of the Harmonized Tariff Schedule of the United States (HTSUS). This subheading also covers products that are outside the scope of this investigation. Furthermore, although the HTSUS subheading is provided for convenience and customs purposes, our written description of the scope of this investigation is dispositive.

Antidumping Duty Order

On August 2, 2004, the International Trade Commission (ITC) notified the Department of Commerce (the Department) of its final determination pursuant to section 735(d) of the Tariff Act of 1930, as amended (the Act), that the industry in the United States producing PRCBs is materially injured within the meaning of section 735(b)(1)(A)(i) of the Act by reason of less-than-fair-value imports of subject merchandise from Malaysia. Therefore, in accordance with section 736(a)(1) of the Act, the Department will direct U.S. Customs and Border Protection (CBP) to assess, upon further advice by the Department, antidumping duties equal to the amount by which the normal value of the merchandise exceeds the export price of the merchandise for all relevant entries of PRCBs from Malaysia. These antidumping duties will be assessed on all unliquidated entries of PRCBs from Malaysia entered, or withdrawn from the warehouse, for consumption on or after January 26, 2004, the date on which the Department published its Notice of Preliminary Determination of Sales at Less Than Fair Value and Postponement of Final Determination: Polyethylene Retail Carrier Bags from Malaysia, 69 FR 3557 (January 26, 2004).

Section 733(d) of the Act states that instructions issued pursuant to an affirmative preliminary determination may not remain in effect for more than four months except where exporters representing a significant proportion of exports of the subject merchandise request the Department to extend that four-month period to not more than six months. At the request of an exporter that accounts for a significant proportion of exports of PRCBs, we extended the four-month period to not more than six months. See 69 FR at 3558. In this investigation, the six-month period began on the date of the publication of the preliminary determination and ended on July 24, 2004. Therefore, in accordance with section 733(d) of the Act and our practice, we will instruct CBP to terminate the suspension of liquidation and to liquidate, without regard to antidumping duties, unliquidated entries of PRCBs from Malaysia entered, or withdrawn from warehouse, for consumption on or after July 24, 2004, and before the date of publication of the ITC's final injury determination in the Federal Register. Suspension of liquidation will continue on or after this date.

On or after the date of publication of the ITC's notice of final determination in the Federal Register, CBP will require, at the same time as importers would normally deposit estimated duties on this merchandise, cash deposits for the subject merchandise equal to the estimated weighted-average antidumping margins listed below for all companies except Bee Lian Plastic Industries Sdn. Bhd (Bee Lian). Because we found a de minimis margin for Bee Lian, we are excluding merchandise manufactured and exported by this company from this order. The all-others rate applies to all entries of the subject merchandise except for entries from the companies that are identified individually below.

Producer or exporter | Weighted-average percent margin
Teong Chuan Plastic and Timber Sdn. Bhd. | 101.74
Branpak Industries Sdn. Bhd. | 101.74
Gants Pac Industries | 101.74
Sido Bangun Sdn. Bhd. | 101.74
Zhin Hin/Chin Hin Plastic Manufacturer Sdn. Bhd. | 101.74
All Others | 84.94

This notice constitutes the antidumping duty order with respect to PRCBs from Malaysia, pursuant to section 736(a) of the Act. Interested parties may contact the Department's Central Records Unit, Room B-099 of the Main Commerce Building, for copies of an updated list of antidumping duty orders currently in effect.

This order is published in accordance with section 736(a) of the Act and 19 CFR 351.211.

Dated: August 4, 2004.
Joseph A. Spetrini,
Acting Assistant Secretary for Import Administration.

[FR Doc. 04-18265 Filed 8-6-04; 8:45 am]

BILLING CODE 3510-DS-P